NUCLEAR REGULATORY COMMISSION

[Docket No. 030-03754]

Notice of Consideration of Amendment Request for Decommissioning the ABB Prospects, Inc. Site in Windsor, Connecticut and Opportunity for a Hearing

AGENCY: Nuclear Regulatory Commission.

ACTION: Notice of consideration of amendment request for decommissioning and opportunity to request a hearing.

FOR FURTHER INFORMATION CONTACT: Randolph C. Ragland, Jr., Division of Nuclear Materials Safety, U.S. Nuclear Regulatory Commission, Region I, 475 Allendale Road, King of Prussia, Pennsylvania 19406; telephone (610) 337-5083; by facsimile transmission to (610) 337-5269; or by e-mail to rcr1@nrc.gov.

DATES: The agency must receive requests for a hearing on or before March 8, 2004.

SUPPLEMENTARY INFORMATION:

I. Introduction

The U.S. Nuclear Regulatory Commission (NRC) is considering issuance of a license amendment to Materials License No. 06-00217-06, to authorize the decommissioning of the ABB Prospects, Inc. site in Windsor, Connecticut, for unrestricted use. The current license expires April 30, 2011.

By letter dated October 15, 2003, ABB Prospects, Inc. submitted an application for a license amendment, specifically the CE Windsor Site Decommissioning Plan (DP), which included a report entitled, “Derivation of the Site-Specific Soil DCGLs.” The licensee has been performing limited decommissioning of Building Complexes 2, 5, and 17 at the CE Windsor site in accordance with the conditions described in License No. 06-00217-06. Although certain buildings and areas on the site are being addressed by the U.S. Army Corps of Engineers (USACE) under the Formerly Utilized Sites Remedial Action Program (FUSRAP), the proposed DP is intended to provide the decommissioning information necessary for site-wide license termination and unrestricted release.

The NRC staff has completed its initial expanded acceptance review and has determined that the licensee's submission is sufficiently complete for the NRC staff to initiate a detailed technical review of the DP.

If the NRC approves the DP, the approval will be documented in an amendment to License No. 06-00217-06. However, before approving the DP, the NRC will have made findings required by the Atomic Energy Act of 1954, as amended, and NRC's regulations. These findings will be documented in a Safety Evaluation Report and an Environmental Assessment.

II. Opportunity for a Hearing

The NRC hereby provides notice that this is a proceeding on an application for amendment of a license falling within the scope of Subpart L “Informal Hearing Procedures for Adjudication in Materials Licensing Proceedings,” of NRC's rules and practice for domestic licensing proceedings in 10 CFR part 2. Any person whose interest may be affected by this proceeding may file a request for a hearing in accordance with 10 CFR 2.1205(e). A request for hearing must be filed within thirty (30) days of the date of publication of this Federal Register Notice.

The request for the hearing must be filed with the Office of the Secretary, either:

(1) By delivery to the Rulemaking and Adjudications Staff of the Office of the Secretary of the Commission at One White Flint North, 11555 Rockville Pike, MD 20852-2738, between the hours of 7:45 a.m. and 4:15 p.m., Federal workdays; or

(2) By mail or telegram addressed to the Secretary, U.S. Nuclear Regulatory Commission, Washington, DC 20555-0001. Attention: Rulemaking and Adjudications Staff. Because of continuing disruptions in the delivery of mail to United States Government Offices, hearing requests should also be transmitted to the Secretary of the Commission either by means of facsimile transmission to (301)415-1101, or by e-mail to hearingdocket@nrc.gov.

In accordance with 10 CFR 2.1205(f), each request for a hearing must also be served, by delivering it personally or by mail, to:

(1) The applicant, ABB Prospects, Inc., CEP 880-1403, 2000 Day Hill Road, Windsor, CT 06095-0500, Attention: John Conant; and

(2) The NRC staff, by delivery to the Office of the General Counsel, One White Flint North, 11555 Rockville Pike, Rockville, MD 20852-2738, between the hours of 7:45 a.m. and 4:15 p.m., Federal workdays, or by mail, addressed to the Office of the General Counsel, U.S. Nuclear Regulatory Commission, Washington, DC 20555-0001. Because of continuing disruptions in the delivery of mail to United States Government Offices, hearing requests should also be transmitted to the Office of General Counsel, either by means of facsimile transmission to (301) 415-3725, or by e-mail to OGCMailCenter@nrc.gov.

In addition to meeting other applicable requirements of 10 CFR part 2 of the NRC's regulations, a request for a hearing filed by a person other than an applicant must describe in detail:

(1) The interest of the requestor;

(2) How the interest may be affected by the results of the proceeding, including the reasons why the requestor should be permitted a hearing, with particular reference to the factors set out in 10 CFR 2.1205(h);

(3) The requestor's areas of concern about the licensing activity that is subject matter of the proceedings; and

(4) The circumstances establishing that the request for a hearing is timely in accordance with 10 CFR 2.1205(d).

III. Further Information

In accordance with 10 CFR 2.790 of the NRC's “Rules of Practice,” details with respect to this action, including the application for amendment, the proposed DP, and supporting documentation, are available for inspection at NRC's Public Electronic Reading Room at http://www.nrc.gov/reading-rm/adams.html (Accession Number ML040300149). These documents are also available for inspection and copying for a fee at the Region I Office, 475 Allendale Road, King of Prussia, Pennsylvania, 19406. Persons who do not have access to ADAMS, should contact the NRC PDR Reference staff by telephone at 1-800-397-4209 or (301) 415-4737, or by e-mail to pdr@nrc.gov.

Dated at King of Prussia, Pennsylvania, this 30th day of January, 2004.
For the Nuclear Regulatory Commission.
Ronald R. Bellamy,
Chief, Decommissioning & Laboratory Branch, Division of Nuclear Materials Safety, RI.

[FR Doc. 04-2619 Filed 2-5-04; 8:45 am]

BILLING CODE 7590-01-P